DEPARTMENT OF HEALTH AND HUMAN SERVICES

Office of the Secretary

[Document Identifier: HHS-OS-0990-0281-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for revision of the approved information collection assigned OMB control number 0990-0281, scheduled to expire on November 30, 2015. Comments submitted during the first public review of this ICR will be provided to OMB. OMB will accept further comments from the public on this ICR during the review and approval period.

DATES: Comments on the ICR must be received on or before October 30, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0281 for reference.

Information Collection Request Title: Prevention Communication Formative Research—Revision—OMB No. 0990-0281—Office of Disease Prevention and Health Promotion.

Abstract: The Office of Disease Prevention and Health Promotion's (ODPHP) focus includes developing and disseminating prevention information to the public. Changes in this request include updated national hourly wage and minor changes to data collection activities and related burden hours in order to meet the needs of the initiatives mentioned below. This request builds on previous formative research approaches to place more emphasis on Web-based data collection to allow greater geographical diversity among respondents, to decrease respondent burden, and to save government costs. As a federal government agency, ODPHP strives to be responsive to the needs of America's diverse audiences while simultaneously serving all Americans across a range of channels. To carry out its prevention information efforts, ODPHP is committed to conducting formative and usability research to provide guidance on the development and implementation of its disease prevention and health promotion communication and education efforts. This generic clearance request describes data collection activities involving methods such as: Individual interviews, focus groups, Web-based surveys, card sorting and various forms of usability testing to establish a deeper understanding of the interests and needs of consumers and health professionals for disease prevention and health promotion information and tools.

The information collected will be used by ODPHP to improve its communication, products, and services that support key office activities including: Healthy People, Dietary Guidelines for Americans, Physical Activity Guidelines for Americans, healthfinder.gov, and increasing health care quality and patient safety. ODPHP communicates through its Web sites (www.healthfinder.gov, www.HealthyPeople.gov, www.health.gov) and through other channels including social media, print materials, interactive training modules, and reports.

Likely Respondents: Respondents are likely to be either consumers or health professionals.

Total Estimated Annualized Burden Hours
Data collection task | Instrument/form name | Number of respondents | Number of responses/ respondent | Average burden/ response (in hours) | Total response burden (in hours)
In-depth interviews | Screener | 135 | 1 | 10/60 | 22.5
| Interview | 45 | 1 | 1 | 45
Focus groups | Screener | 240 | 1 | 10/60 | 40
| Focus Group | 80 | 1 | 1.5 | 120
Web-based surveys | Screener | 6000 | 1 | 5/60 | 500
| Survey | 2000 | 1 | 15/60 | 500
Card sorting | Screener | 180 | 1 | 10/60 | 180
| Card Sort | 60 | 1 | 1 | 60
Usability and prototype testing of materials (print and Web) | Screener | 360 | 1 | 10/60 | 60
| Usability Test | 120 | 1 | 1 | 120
Total |  |  |  |  | 1,647.50

Terry S. Clark,
Asst Information Collection Clearance Officer.

[FR Doc. 2015-24702 Filed 9-29-15; 8:45 am]

BILLING CODE 4150-32-P